INTERNATIONAL TRADE COMMISSION

[Investigation Nos. 701-TA-468 and 731-TA-1166-1167 (Review)]

Certain Magnesia Carbon Bricks from China and Mexico; Correction to Notice of Institution of Five-Year Reviews

AGENCY: United States International Trade Commission.

ACTION: Notice.

SUMMARY: In a notice published in the Federal Register on August 3, 2015 (80 FR 46050), the Commission published a notice of institution of five-year reviews concerning the antidumping and countervailing duty orders on certain magnesia carbon bricks from China and Mexico with incorrect investigation numbers. The correct investigation numbers are as follows: Investigation Nos. 701-TA-468 and 731-TA-1166-1167 (Review).

DATES: Effective Date: August 3, 2015.

FOR FURTHER INFORMATION CONTACT: Mary Messer (202-205-3193), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this proceeding may be viewed on the Commission's electronic docket (EDIS) at http://edis.usitc.gov.

Authority: This proceeding is being conducted under authority of Title VII of the Tariff Act of 1930; this notice is published pursuant to section 207.61 of the Commission's rules.

By order of the Commission.
Issued: August 11, 2015.
William R. Bishop,
Supervisory Hearings and Information Officer.

[FR Doc. 2015-20181 Filed 8-14-15; 8:45 am]

BILLING CODE 7020-02-P